DEPARTMENT OF ENERGY

Federal Energy Regulatory Commission

Combined Notice of Filings #2

Take notice that the Commission received the following electric rate filings:

Docket Numbers: ER10-1901-008.

Applicants: Upper Peninsula Power Company.

Description: Notice of No-Material Change in Status of Upper Peninsula Power Company.

Filed Date: 9/3/14.

Accession Number: 20140903-5097.

Comments Due: 5 p.m. ET 9/24/14.

Docket Numbers: ER10-2895-008; ER11-2292-007; ER11-3942-006; ER11-2293-007; ER10-2917-008; ER11-2294-007; ER13-1613-001; ER10-2918-009; ER10-2920-008; ER11-3941-006; ER10-2921-008; ER10-2922-008; ER10-2966-008.

Applicants: Bear Swamp Power Company LLC, Brookfield Energy Marketing Inc., Brookfield Energy Marketing LP, Brookfield Energy Marketing US LLC, Brookfield Power Piney & Deep Creek LLC, Brookfield Renewable Energy Marketing US, Brookfield White Pine Hydro LLC, Carr Street Generating Station, L.P., Erie Boulevard Hydropower, L.P., Granite Reliable Power, LLC, Great Lakes Hydro America, LLC, Hawks Nest Hydro LLC, Rumford Falls Hydro LLC.

Description: Second Supplement to December 30, 2013 Updated Market Power Analysis for the Northeast Region of the Brookfield Companies under ER10-2895, et. al.

Filed Date: 9/2/14.

Accession Number: 20140902-5295.

Comments Due: 5 p.m. ET 9/23/14.

Docket Numbers: ER14-2759-000.

Applicants: R.R. Donnelley & Sons Company.

Description: Initial rate filing per 35.12 R.R. Donnelley MBRA Application to be effective 11/2/2014.

Filed Date: 9/3/14.

Accession Number: 20140903-5061.

Comments Due: 5 p.m. ET 9/24/14.

Docket Numbers: ER14-2760-000.

Applicants: Southwestern Public Service Company.

Description: § 205(d) rate filing per 35.13(a)(2)(iii): 2014-9-3_SPS-NPEC-GSEC-Chaparral-675 0.0.0-Filing to be effective 9/4/2014.

Filed Date: 9/3/14.

Accession Number: 20140903-5086.

Comments Due: 5 p.m. ET 9/24/14.

Docket Numbers: ER14-2761-000.

Applicants: Midcontinent Independent System Operator, Inc.

Description: § 205(d) rate filing per 35.13(a)(2)(iii): 2014-09-03_SA 2693 NSP-Black Oak Wind Farm GIA (G858/H071) to be effective 9/4/2014.

Filed Date: 9/3/14.

Accession Number: 20140903-5089.

Comments Due: 5 p.m. ET 9/24/14.

Docket Numbers: ER14-2762-000.

Applicants: Pine Bluff Energy, LLC.

Description: § 205(d) rate filing per 35.13(a)(2)(iii): Rate Schedule FERC No. 1 for Reactive Service to be effective 11/1/2014.

Filed Date: 9/3/14.

Accession Number: 20140903-5099.

Comments Due: 5 p.m. ET 9/24/14.

Docket Numbers: ER14-2763-000.

Applicants: Westar Energy, Inc.

Description: Tariff Withdrawal per 35.15: Request for Cancellation of Schedule 3A & Balancing Area Services Agreement to be effective 12/1/2014.

Filed Date: 9/3/14.

Accession Number: 20140903-5109.

Comments Due: 5 p.m. ET 9/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2014.
Nathaniel J. Davis, Sr.,
Deputy Secretary.

[FR Doc. 2014-21598 Filed 9-10-14; 8:45 am]

BILLING CODE 6717-01-P